SECURITIES AND EXCHANGE COMMISSION

[Release No. 34-96505; File No. SR-PEARL-2022-47]

Self-Regulatory Organizations; MIAX PEARL, LLC; Notice of Withdrawal of Proposed Rule Change To Amend the MIAX PEARL Options Fee Schedule To Remove a Monthly Credit Associated With Trading Permit Fees

December 15, 2022.

On November 2, 2022, MIAX PEARL, LLC (“MIAX Pearl”) filed with the Securities and Exchange Commission (“Commission”), pursuant to Section 19(b)(1) of the Securities Exchange Act of 1934 ¹ and Rule 19b-4 thereunder,² a proposed rule change to remove a monthly credit associated with trading permit fees. The proposed rule change was published for comment in the Federal Register on November 14, 2022.³

¹ 15 U.S.C. 78s(b)(1).

² 17 CFR 240.19b-4.

³ See Securities Exchange Act Release No. 96249 (November 7, 2022), 87 FR 68217.

On December 14, 2022, MIAX Pearl withdrew the proposed rule change (SR-PEARL-2022-47).

For the Commission, by the Division of Trading and Markets, pursuant to delegated authority.⁴
⁴ 17 CFR 200.30-3(a)(12).
Sherry R. Haywood,
Assistant Secretary.

[FR Doc. 2022-27652 Filed 12-20-22; 8:45 am]

BILLING CODE 8011-01-P